DEPARTMENT OF AGRICULTURE

Forest Service

Tuolumne County Resource Advisory Committee

AGENCY: Forest Service, USDA.

ACTION: Notice of meeting.

SUMMARY: The Tuolumne County Resource Advisory Committee will meet on May 19, 2003 at the City of Sonora Fire Department, in Sonora, California. The purpose of the meeting is to review project proposal submittals, and determine presentation needs for the upcoming June and July meetings.

DATES: The meeting will be held May 19, 2003, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; e-mail pkaunert@fs.fed.us

SUPPLEMENTARY INFORMATION: Agenda items to be covered include: (1) Status of replacement member applicants; (2) Review project proposal submittals; (3) Determine which proposal proponents to invite to make an oral presentation at the June and July meetings. This meeting is open to the public.

Dated: May 7, 2003.
Tom Quinn,
Forest Supervisor.

[FR Doc. 03-12106 Filed 5-14-03; 8:45 am]

BILLING CODE 3410-ED-M